DEPARTMENT OF THE TREASURY

Community Development Financial Institutions Fund

Information Collection: Capital Magnet Fund Application; Capital Magnet Fund Annual Report

ACTION: Notice and request for public comment.

SUMMARY: The U.S. Department of the Treasury, as part of its continuing effort to reduce paperwork and respondent burden, invites the general public and other Federal agencies to take this opportunity to comment on proposed and/or continuing information collections, as required by the Paperwork Reduction Act (PRA) of 1995, 44 U.S.C. 3506(c)(2)(A). Currently, the Community Development Financial Institutions (CDFI) Fund, Department of the Treasury, is soliciting comments concerning the Capital Magnet Fund (CMF) Application (hereafter, the Application) and comments concerning reporting and record retention requirements of the Capital Magnet Fund Annual Report (hereafter, Annual Report).

DATES: Written comments must be received on or before August 2, 2016 to be assured of consideration.

ADDRESSES: Submit your comments via email to Marcia Sigal, CMF Program Manager, CDFI Fund, at cmf@cdfi.treas.gov.

FOR FURTHER INFORMATION CONTACT: Marcia Sigal, CMF Program Manager, CDFI Fund, U.S. Department of the Treasury, 1500 Pennsylvania Avenue NW., Washington, DC 20220 (202) 653-0375 (not a toll free number). Other information regarding the CDFI Fund and its programs may be obtained through the CDFI Fund's Web site at http://www.cdfifund.gov.

The Application may be obtained from the CMF program page of the CDFI Fund's Web site at https://www.cdfifund.gov/Documents/FY2016%20CMF%20Application%20Instructions_Final_Updated%203.23.2016.pdf. The Capital Magnet Fund Awardee Annual Report can be found at https://www.cdfifund.gov/programs-training/Programs/cmf/Pages/compliance-step.aspx#step5.

SUPPLEMENTARY INFORMATION: Title: Capital Magnet Fund Application; Capital Magnet Fund Annual Report.

OMB Numbers: 1559-0036; 1559-0043.

Abstract: The Capital Magnet Fund (CMF) was established through the Housing and Economic Recovery Act of 2008 (Pub. L. 110-289) or HERA, as a trust fund to be used to carry out a competitive grant program administered by the CDFI Fund. Through the CMF, the CDFI Fund is authorized to administer a competitive application process to make financial assistance grants to Certified Community Development Financial Institutions (CDFIs) and qualified Nonprofit Organizations that have the development or management of affordable housing as one of their principal purposes. CMF Awards must be used to attract private financing for and increase investment in (i) the Development, Preservation, Rehabilitation, and Purchase of Affordable Housing for primarily Extremely Low-, Very Low-, and Low-Income Families; and (ii) Economic Development Activities which, In Conjunction With Affordable Housing Activities will implement a Concerted Strategy to stabilize or revitalize a Low-Income area or an Underserved Rural Area.

CMF Award Recipients will be competitively selected after a careful review of their applications for program funding. The Application requires the submission of information about the Applicant's track record, proposed pipeline, as well as data and narrative strategies for four main sections: Business Strategy, Leveraging Strategy, Community Impact, and Organizational Capacity. As part of the Award selection process, the CDFI Fund will conduct a quantitative review and a subsequent external substantive review of each Application in two parts (Phase 1 and Phase 2) as defined in a Notice of Funds Availability for each round.

The CMF Award Recipients will enter into Assistance Agreements with the CDFI Fund that set forth certain required terms and conditions of the award, including reporting and data collection requirements. The Assistance Agreement requires the collection of annual reports that are used to collect information for compliance monitoring and program evaluation purposes. This information is reviewed to ensure the Awardee's compliance with its performance goals and contractual obligations as well as the overall performance of the program.

The CDFI Fund published a Notice of Funds Availability for the Capital Magnet Fund on February 8, 2016 (81 Federal Register 6585). The NOFA provides application guidance for the FY 2016 CMF funding round. The CDFI Fund sought and received emergency PRA approval from Office of Management and Budget (OMB) for the CMF Application that is currently being used for the FY 2016 CMF funding round.

This request for public comment seeks to consolidate all CMF-related forms under OMB control number 1559-0036. Therefore, 1559-0036 will include both the CMF Application, currently 1559-0036, and 1559-0043 the Capital Magnet Fund Awardee Annual Report.

Title: Capital Magnet Fund Application.

OMB Number: 1559-0036.

Current Actions: Renewal of existing Information Collection.

Type of Review: Regular Review.

Affected Public: Certified CDFIs and qualified Nonprofit Organizations.

Estimated Number of Respondents: 150.

Estimated Annual Time per Respondent: 100.

Estimated Total Annual Burden Hours: 15,000.

Title: Capital Magnet Fund Annual Report.

OMB Number: 1559-0043.

Current Actions: Reinstatement.

Type of Review: Regular Review.

Affected Public: Eligible Certified CDFIs and Nonprofit Organizations participating in CMF.

Estimated Number of Respondents: 60.

Estimated Annual Time per Respondent: 40 hours per year.

Estimated Total Annual Burden Hours: 2,400 hours per year.

Requests for Comments: Comments submitted in response to this notice will be summarized and/or included in the request for Office of Management and Budget approval. All comments will become a matter of public record and may be published on the CDFI Fund's Web site at http://www.cdfifund.gov.

The CDFI Fund is seeking input on the content of the CMF Application with regards to the following: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Additionally, the CDFI Fund specifically requests comments concerning the following questions:

(1) Is the information that is currently collected by the Application necessary and appropriate for the CDFI Fund to consider for the purpose of making award decisions?

(2) Are there questions or tables that are redundant or unnecessary?

(3) Are there questions or tables that should be added to ensure collection of relevant information?

(4) CMF Awards may be used to finance Affordable Housing Activities (both rental and Homeownership), as well as certain Economic Development Activities. Is the data and information requested in the Application about proposed Affordable Housing Activities and Economic Development Activities appropriate to these different activities or housing tenure types?

(5) What, if any, additional data and information should be collected on any of these different activities or housing tenure types?

(6) Question 5 asks Applicants to provide the Service Areas that they propose to serve through CMF Awards. Do the answer options in Question 5 allow for sufficient flexibility to encompass the Service Areas in which Certified CDFIs and Non-Profit Organizations operate?

(7) Per HERA, the CDFI Fund is required to fund CMF activities in geographically diverse areas of economic distress. The CDFI Fund publishes a list of areas of “High Housing Need” based on data from the U.S. Census as a way for Applicants to identify their intent to fund activities in areas of economic distress. In the FY 2016 CMF funding round, areas of High Housing Need are defined as census tracts where: (i) At least 20 percent of households are Very Low-Income renters paying more than half their income for rent; or (ii) are high poverty neighborhoods (where greater than 20 percent of households have incomes below the poverty rate) with a rental vacancy rate of at least 10 percent; or (iii) are Underserved Rural Areas. What other sources of data or indicators could the CDFI Fund use to identify areas of high housing need or areas of economic distress?

(8) How, if at all, should the CDFI Fund consider the energy efficiency and/or environmental impacts of properties as part of the Application process?

(9) Tables A1, A2, and C1 ask for certain data that will be used to assess an Applicant's track record. Is the data collected in these three tables appropriate to assess an Applicant's track record? Is there other information not requested in the Application that could demonstrate an Applicant's track record?

(10) Tables B2, B3, and C2 ask for certain data and information that will be used to assess an Applicant's projected deployment and production. Is the data collected in these three tables appropriate to assess an Applicant's projected deployment of its CMF Award and production? Is there other information not requested in the Application that would demonstrate an Applicant's projected deployment of its CMF Award and production?

(11) Are there requests for data in the Application that Applicants (either Certified CDFIs or Non-Profit Organizations) do not have readily available or that are too overly burdensome to obtain and/or calculate (e.g., Exhibit 3 Application Financial Data)?

(12) What data and information about an Applicant's loan portfolio and organizational finances should be requested in the Application in order to evaluate whether Applicants are in adequate financial health and have the capacity to successfully deploy a CMF Award?

The CDFI Fund is also seeking input on the content of the Capital Magnet Fund Annual Report. The CMF Assistance Agreement requires the collection of annual reports that are used to collect information for compliance monitoring and program evaluation purposes. This information is reviewed to ensure the Recipient's compliance with its performance goals and contractual obligations and the overall performance of the program. The Annual Report represents a revised annual information collection as compared to the version posted in December 2012. This information collection request incorporates four new fields to report funding from related public sources and related private sources, and funding from third-party public sources and third-party private sources. In addition, this version incorporates prior public comments and technical corrections from current users to improve validation and reduce reporting burdens for program Recipients. The CDFI Fund proposes to add additional fields to the posted data collection instrument to show how the Applicant has met its Application commitment to leverage a CMF Award with the specified pre-investment funds. The reporting template can be viewed on the CDFI Fund Web site at https://www.cdfifund.gov/programs-training/Programs/cmf/Pages/compliance-step.aspx#step5. Comments concerning the Annual Report are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: Pub. L. 110-289, 12 CFR 1807.

Mary Ann Donovan,
Director, Community Development Financial Institutions Fund.

[FR Doc. 2016-13122 Filed 6-2-16; 8:45 am]

BILLING CODE 4810-70-P